DEPARTMENT OF ENERGY

Federal Energy Regulatory Commission

[Docket No. EL12-62-000]

PPL Montana, LLC; Supplemental Notice of Meeting

May 31, 2012.

On May 23, 2012, the Federal Energy Regulatory Commission (Commission) announced that Commission staff will meet with PPL Montana, LLC and the Confederated Salish and Kootenai Tribes on Thursday, June 7, 2012 at 1:00 p.m. EDT at Commission's headquarters, located at 888 First Street NE., Washington, DC 20426, Room 3M-1.

Interested parties may participate in the meeting by telephone. Please contact Gary Cohen, Office of the General Counsel, Federal Energy Regulatory Commission at (202) 502-8321 or Gary.Cohen@ferc.gov.

Dated: May 31, 2012.
Kimberly D. Bose,
Secretary.

[FR Doc. 2012-13878 Filed 6-7-12; 8:45 am]

BILLING CODE 6717-01-P